DEPARTMENT OF COMMERCE

National Oceanic and Atmospheric Administration

RINs 0648-XE743, 0648-XE614, 0648-XF085, and 0648-XB065

Marine Mammals and Endangered Species; File Nos. 15844-02, 18059, 20114, and 20443

AGENCY: National Marine Fisheries Service (NMFS), National Oceanic and Atmospheric Administration (NOAA), Commerce.

ACTION: Notice; issuance of permits and permit amendments.

SUMMARY: Notice is hereby given that permits and permit amendments have been issued to the following entities:

RIN 0648-XB065; Permit No. 15844-02: Glacier Bay National Park and Preserve, Gustavus, AK, 99826 [Responsible Party: Philip N. Hooge];

RIN 0648-XF085; Permit No. 18059: David Wiley, Ph.D., Stellwagen Bank National Marine Sanctuary, 175 Edward Foster Road, Scituate, MA 02066;

RIN 0648-XE614; Permit No. 20114: Commonwealth of Northern Mariana Islands (CNMI) Department of Lands & Natural Resources, Sea Turtle Program, Caller Box 10007 Saipan, MP 96950 Northern Mariana Islands [Responsible Party: Richard B. Seman];

RIN 0648-XE743; Permit No. 20443: Alaska Department of Fish and Game, PO Box 115526, Juneau, AK, 99811-5526 [Responsible Party: Robert Small, Ph.D.].

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith (File No. 15844-02) Sara Young (File No. 18059, 20443), and Amy Hapeman (File No. 20114) at (301) 427-8401.

SUPPLEMENTARY INFORMATION: Notices were published in the Federal Register that requests for a permit or permit amendment had been submitted by the above-named applicants. The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 15844-02: The original permit (77 FR 14352, March 9, 2012) authorizes Glacier Bay National Park and Preserve to conduct passive acoustics, videography, photo-identification surveys, biopsy sampling, and collect sloughed skin and/or feces to study humpback whales, killer whales and minke whales. Research would occur around southeastern Alaska especially in Glacier Bay National Park and Preserve. The amended permit (No. 15844-02) extends the original permit for one year—through February 28, 2018, or until the permit holder has exhausted the total number of takes authorized for the fifth year of the permit, whichever occurs first.

Permit No. 18059: The requested permit (82 FR 3727, January 12, 2017) authorizes research to investigate the foraging ecology, habitat use, physiology, and acoustic and social behavior of humpback (Megaptera noveaeangliae), fin (Balaenoptera physalus), minke (B. acutorostrata), and sei (B. borealis) whales in the Gulf of Maine. Up to 130 adult and juvenile humpback, 90 fin, 60 minke, and 70 sei whales will be approached for suction cup tagging, prey mapping, obtaining biological samples including biopsies, and photo ID. Up to 10 humpback, 5 fin, and 3 sei whale calves will also be approached for tagging and blow sampling. Up to 690 humpback, 480 fin, 250 minke, and 370 sei whales will be incidentally harassed during research. The permit is valid for five years from the date of issuance.

Permit No. 20114: The requested permit (81 FR 37576, June 10, 2016) authorizes researchers to study green (Chelonia mydas) and hawksbill (Eretmochelys imbricata) sea turtles in the waters of the CNMI to characterize their population structure, size class composition, foraging ecology, health, and migration patterns. Researchers may capture live sea turtles by hand and perform a suite of biological sampling, marking, and tagging procedures prior to release. Carcasses and parts of dead sea turtles may also be salvaged. The permit is valid through February 15, 2022.

Permit No. 20443: The requested permit (81 FR 83202, November 21, 2016) authorizes research on harbor seals (Phoca vitulina) throughout their range in Alaska including Southeast Alaska, Gulf of Alaska and Bering Sea. The research activities include aerial, vessel and ground surveys, radio tracking, photo-identification, photograph/video, behavioral observations and monitoring, and capture of up to 350 animals by entanglement in a net in the water or by hoop net or dip net on land. Captured animals may be chemical restraint; physical restraint by hand, net, cage or stretcher. Researchers may collect biological samples (e.g., scat, blood, milk from lactating females, blubber, muscle, skin, hair, mucus membrane swabs, stomach content subsample, tooth and vibrissae); standard morphometrics and weight; measurements of blubber via ultrasound; and inject PIT tags and attach flipper tags. A subset of the captured animals may also be outfitted with external transmitters and dataloggers. The applicant also requests export (worldwide) and import of samples for analysis, incidental disturbance and unintentional mortality of harbor seals and porpoises (Phocoena phocoena), and intentional mortality (euthanasia) of harbor seals. The permit is valid for five years from date of issuance.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in section 2 of the ESA.

Dated: April 4, 2017.
Julia Harrison,
Chief, Permits and Conservation Division, Office of Protected Resources, National Marine Fisheries Service.

[FR Doc. 2017-07001 Filed 4-6-17; 8:45 am]

BILLING CODE 3510-22-P